ENVIRONMENTAL PROTECTION AGENCY

[ER-FRL-6615-7]

Environmental Impact Statements; Notice of Availability

Responsible Agency

Office of Federal Activities, General Information (202) 564-7167 or www.epa.gov/oeca/ofa

Weekly receipt of Environmental Impact Statements Filed February 12, 2001 Through February 16, 2001 Pursuant to 40 CFR 1506.9.

EIS No. 010046, DRAFT EIS, BLM, CA, Northern and Eastern Colorado Desert Plan (Plan), Implementation, Comprehensive Framework for Managing Species and Habitats (BLM), Joshua Tree National Park (JTNP) and Chocolate Mountains Aerial Gunnery Range, California Desert, Riverside, Imperial and San Bernardino Counties, CA, Comment Period Ends: May 26, 2001, Contact: Dick Crowe (909) 697-5216.

EIS No. 010047, DRAFT EIS, BLM, UT, CO, NM, Williams, Questar, Kern River Pipeline Project, To Approve a Petroleum Products Pipeline, and one or two Natural Gas Pipelines and To Amend Forest Plan, UT, NM and CO, Comment Period Ends: April 16, 2001, Contact: LaVerne Steah (801) 539-4114.

EIS No. 010048, DRAFT EIS, FHW, AR, Southeast Arkansas I-69 Connector, Transportation Improvement, Funding, Drew, Lincoln, Cleveland and Jefferson Counties, AR, Comment Period Ends: April 23, 2001, Contact: Amy H. Heflin (501) 324-6435.

EIS No. 010049, FINAL EIS, DOE, CA, National Ignition Facility Project Specific Analysis, Construction and Operation at the Lawrence Livermore National Laboratory, Livermore, CA, Wait Period Ends: March 26, 2001, Contact: Richard Scott (925) 423-3022.

EIS No. 010050, DRAFT EIS, NPS, CA, Santa Cruz Island Primary Restoration Plan, Implementation, Channel Islando National Park, Santa Cruz Island, Santa Barbara County, CA, Comment Period Ends: April 24, 2001, Contact: Alan Schmierer (415) 427-1441.

EIS No. 010051, FINAL EIS, USN, FL, MS, VA, USS Winston S. Churchill (DDG 81), Conducting a Shock Trial, Offshore of Naval Stations, Mayport, FL; Norfolk, VA and/or Pascagoula, MS, Wait Period End: March 26, 2001, Contact: Lyn Carroll (703) 413-4099.

EIS No. 010052, DRAFT EIS, COE, FL, Cape Sable Seaside Sparrow Protection, Interim Operating Plan, Implementation, Everglades National Park, Dade County, FL, Comment Period Ends: April 09, 2001, Contact: Elamr Kurzbach (904) 232-2325.

EIS No. 010053, FINAL EIS, FHW, TX, US-190 Corridor from FM2657 to the East City Limits of Copperas Cove, Transportation Improvements, Major Investment Study, Coryell and Lampasas Counties, TX, Wait Period Ends: March 26, 2001, Contact: Patrick Bauer (512) 536-5950.

Amended Notices

EIS No. 000338, DRAFT EIS, STB, SD, WY, MN, Powder River Basin Expansion Project, Construction of New Rail Facilities, Finance Docket No. 33407 Dakota, Minnesota and Eastern Railroad, SD, WY and MN, Comment Period Ends: March 06, 2001, Contact: Victoria Rutson (202) 565-1545. Published FR—10-06-00—Review Period Reestablished.

EIS No. 000456, DRAFT EIS, AFS, AK, Cholmondeley Timber Sales, Implementation, Harvesting Timber, Tongass Forest Plan, Tongass National Forest, Craig Ranger District, West of Ketchikan and South of Prince of Wales Island, AK, Comment Period Ends: February 28, 2001, Contact: Dale Kanen (907) 826-3271. Revision of FR notice published on 12/29/2000: CEQ Comment Date has been Extended from 02/20/2001 to 02/28/2001.

EIS No. 010002, DRAFT EIS, MMS, AK, Liberty Development and Production Plan, Beaufort Sea Oil and Gas Development, Implementation, To Transport and Sell Oil to the U.S. and World Markets, Right-of-Way Application, Offshore Beaufort Sea Marine Environment and Onshore North Slope of Alaska Coastal Plan, AK, Comment Period Ends: April 13, 2001, Contact: George Valiulis (703) 787-1662. Revision of FR notice published on 02/12/2001: CEQ Comment Date has been extended from 03/13/2001 to 04/13/2001.

Dated: February 20, 2001.
Joseph C. Montgomery,
Director, NEPA Compliance Division, Office of Federal Activities.

[FR Doc. 01-4529 Filed 2-22-01; 8:45 am]

BILLING CODE 6560-50-U